DEPARTMENT OF DEFENSE

Department of the Army

[Docket ID USA-2020-HQ-0007]

Submission for OMB Review; Comment Request

AGENCY: U.S. Army Corps of Engineers (USACE), Department of Defense (DoD).

ACTION: 30-day information collection notice.

SUMMARY: The DoD has submitted to OMB for clearance the following proposal for collection of information under the provisions of the Paperwork Reduction Act.

DATES: Consideration will be given to all comments received by October 14, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Silver Jackets Program Nomination and Awards; Eng Form 6128; OMB Control Number 0710-XXXX.

Type of Request: New.

Number of Respondents: 54.

Responses per Respondent: 2.

Annual Responses: 108.

Average Burden per Response: 15 minutes.

Annual Burden Hours: 27.

Needs and Uses: The information collection request is necessary to obtain input and feedback into the successes of various Silver Jackets State Teams deserving of recognition through annual awards. Because the program is a shared program, state partners need to have a role in selecting the teams deserving of annual recognition. The form provides a means of nominating teams for consideration and can be filled out by State government employees. State government employees are also asked to vote for the nominated team most deserving of recognition after the nomination phase is complete.

Affected Public: State, Local, or Tribal government.

Frequency: Annually.

Respondent's Obligation: Voluntary.

OMB Desk Officer: Mr. Vlad Dorjets.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: September 8, 2020.
Aaron T. Siegel,
Alternate OSD Federal Register Liaison Officer, Department of Defense.

[FR Doc. 2020-20145 Filed 9-11-20; 8:45 am]

BILLING CODE 5001-06-P